DEPARTMENT OF DEFENSE

Department of the Army, Corps of Engineers

Scoping Period Extension for Environmental Impact Statement for an Easement To Cross Under Lake Oahe, North Dakota for a Fuel-Carrying Pipeline Right-of-Way for a Portion of the Dakota Access Pipeline

AGENCY: Department of the Army, U.S. Army Corps of Engineers, DoD.

ACTION: Notice.

SUMMARY: The U.S. Army Corps of Engineers (USACE) is extending the scoping period through November 26, 2020. The scoping period was originally scheduled to end on October 26, 2020.

FOR FURTHER INFORMATION CONTACT: Heath Kruger, U.S. Army Corps of Engineers at (402) 995-2036 or by email at NWO-DAPL-EIS@usace.army.mil.

Public Comment Availability: Please note that before including your address, phone number, email address, or any other personal identifying information in your comment, you should be aware that your entire comment—including your personal identifying information—may be made available to the public at any time. While you can request us to withhold your personal identifying information from public review, we cannot guarantee that we will be able to do so.

SUPPLEMENTARY INFORMATION: Project information is available at the following website: https://go.usa.gov/xG2Pt.

Scoping comments can be emailed to: NWO-DAPL-EIS@usace.army.mil.

Scoping comments can also be mailed to: U.S. Army Corps of Engineers, Omaha District, ATTN: CENWO-PM-A-C (DAPL NOI), 1616 Capitol Avenue, Omaha, NE 68102.

D. Peter Helmlinger,
Brigadier General, U.S. Army, Division Commander.

[FR Doc. 2020-23474 Filed 10-22-20; 8:45 am]

BILLING CODE 3720-58-P